DEPARTMENT OF TRANSPORTATION

Federal Aviation Administration

RNP SAAAR Approval Consultant Opportunities

AGENCY: Federal Aviation Administration, DOT.

ACTION: Notice and request for applications.

SUMMARY: The Federal Aviation Administration (FAA) announced today that it is seeking to identify qualified industry consultants to assist 14 Code of Federal Regulations (CFR) Part 91, 121, 125, 129, 135 applicants as they pursue approval to conduct “Required Navigation Performance Special Aircraft and Aircrew Authorization Required” (RNP SAAAR) approaches. Provisions for gaining those approvals are contained within FAA Advisory Circular 90-101, “Approval Guidance for RNP Procedures with SAAAR.” Applicants who meet certain qualifications will be permitted to enter into an agreement with the FAA to be listed as RNP SAAAR Approval Consultants.

DATES: Formal letter of application must be received on or before December 31, 2006.

FOR FURTHER INFORMATION CONTACT: Mr. Vincent Chirasello, Federal Aviation Administration, AFS-400 Flight Technologies and Procedures Division, 470 L'Enfant Plaza, Suite 4102, Washington, DC 20024, (202) 385-4586.

SUPPLEMENTARY INFORMATION: RNP SAAAR procedures provide an opportunity to improve safety, efficiency and capacity. Safety is improved when RNP approaches replace visual or non-precision approaches, and efficiency is improved through more repeatable and optimum flight paths. Capacity can be improved by de-conflicting traffic during instrument conditions. RNP SAAAR procedures provide an unprecedented flexibility in construction of approach procedures. RNP SAAAR procedures build upon the performance based National Airspace System (NAS) concept. The performance requirements to conduct an approach are defined, and aircraft are qualified against these performance requirements. RNP approaches include unique characteristics that require special aircraft and aircrew capabilities and authorization similar to Category (CAT) II/III ILS operations.

The AC 90-101 RNP SAAAR approval process is complex and the success of the process depends on the quality of the application. Although the FAA is committed to providing approval services, a reduced budget and increase in attrition leaves fewer resources available to assist new entrants in the approval process. In an effort to address this new RNP SAAAR entrant need, the FAA will develop and maintain a list of qualified AC 90-101 RNP SAAAR Approval Consultants to assist in the approval process. This process will benefit the general public by helping expedite new entrant applications.

(a) Eligibility Requirements: To be identified as an FAA-qualified RNP SAAAR Approval Consultant, the following qualifications must be met:

(1) Have understanding of AC 90-101, as revised, to include the individual appendices. This includes a thorough understanding of the approval process.

(2) At least 2 years experience working with RNP SAAAR or equivalent procedures.

(3) Upon selection for the program, successfully complete an RNP SAAAR Approval Process Seminar.

(4) Have operations and airworthiness personnel qualified through training, experience, and expertise in 14 CFR part 91, 121, 125, 129 and/or 135 operations, or equivalent experience.

(b) Required Documentation: An applicant to become RNP SAAAR Approval Consultant must submit a formal letter of request in addition to the following documents:

(1) Statement substantiating that the RNP SAAAR Approval Consultant applicant meets eligibility requirements as stated in item 1 above.

(2) Supplemental statement including the names, signatures, and titles of those persons who will perform the authorized functions, and substantiating that they meet the eligibility requirements.

(3) RNP SAAAR Approval Consultant Operations Manual.

(4) References.

(5) Certification that, to the best of its knowledge and belief, the persons serving as management of the organization have not been convicted of, or had a civil or administrative finding rendered against, them for: commission of fraud, embezzlement, theft, forgery, bribery, falsification or destruction of records, making false statements, or receiving stolen property.

(c) How to Apply: An RNP SAAAR Consultant applicant must submit all required documents for consideration before being identified as an FAA-qualified RNP SAAAR Approval Consultant to: Mr. Vincent Chirasello, Federal Aviation Administration, AFS-400 Flight Technologies and Procedures Division, 470 L'Enfant Plaza, Suite 4102, Washington, DC 20024.

(d) Application Process: Upon receipt of the application, AFS-400, will:

(1) Ensure the RNP SAAAR Approval Consultant application package contains all the required documents as listed in item 2 above.

(2) Evaluate documents for accuracy.

(3) Ensure the RNP SAAAR consultant application package contains all the eligibility requirements as listed in item 1 above.

(4) Contact the applicant's personal references.

(5) Conduct a personal interview with the applicant; including those persons within organizations, if any, who will perform authorized functions.

Auhority: The FAA is authorized to enter into this Agreement by 49 U.S.C. 106(1), (6) and (m).

Issued in Washington, DC on November 9, 2006.
John M. Allen,
Director, Flight Standards Service.

[FR Doc. 06-9245 Filed 11-22-06; 8:45 am]

BILLING CODE 4910-13-M